DEPARTMENT OF TRANSPORTATION

Federal Aviation Administration

14 CFR Part 39

[Docket No. FAA-2014-0499; Directorate Identifier 2013-SW-061-AD]

RIN 2120-AA64

Airworthiness Directives; Bell Helicopter Textron Canada

AGENCY: Federal Aviation Administration (FAA), DOT.

ACTION: Notice of proposed rulemaking (NPRM).

SUMMARY: We propose to adopt a new airworthiness directive (AD) for Bell Helicopter Textron Canada (BHTC) Model 430 helicopters to require inspecting the tail rotor control tube assembly (control tube) and either repairing or replacing the control tube. This proposed AD is prompted by two reports of failure of the control tube bonded clevis. The proposed actions are intended to prevent failure of a control tube bonded clevis, which could lead to failure of the control tube and subsequent loss of helicopter control.

DATES: We must receive comments on this proposed AD by September 29, 2014.

ADDRESSES: You may send comments by any of the following methods:

• Federal eRulemaking Docket: Go to http://www.regulations.gov. Follow the online instructions for sending your comments electronically.

• Fax: 202-493-2251.

• Mail: Send comments to the U.S. Department of Transportation, Docket Operations, M-30, West Building Ground Floor, Room W12-140, 1200 New Jersey Avenue SE., Washington, DC 20590-0001.

• Hand Delivery: Deliver to the “Mail” address between 9 a.m. and 5 p.m., Monday through Friday, except Federal holidays.

Examining the AD Docket

You may examine the AD docket on the Internet at http://www.regulations.gov or in person at the Docket Operations Office between 9 a.m. and 5 p.m., Monday through Friday, except Federal holidays. The AD docket contains this proposed AD, the foreign authority's AD, the economic evaluation, any comments received, and other information. The street address for the Docket Operations Office (telephone 800-647-5527) is in the ADDRESSES section. Comments will be available in the AD docket shortly after receipt.

For service information identified in this proposed AD, contact Bell Helicopter Textron Canada Limited, 12,800 Rue de l'Avenir, Mirabel, Quebec J7J1R4; telephone (450) 437-2862 or (800) 363-8023; fax (450) 433-0272; or at http://www.bellcustomer.com/files/. You may review the referenced service information at the FAA, Office of the Regional Counsel, Southwest Region, 2601 Meacham Blvd., Room 663, Fort Worth, Texas 76137.

FOR FURTHER INFORMATION CONTACT: Matt Fuller, Senior Aviation Safety Engineer, Safety Management Group, Rotorcraft Directorate, FAA, 2601 Meacham Blvd., Fort Worth, Texas 76137; telephone (817) 222-5110; email matthew.fuller@faa.gov.

SUPPLEMENTARY INFORMATION:

Comments Invited

We invite you to participate in this rulemaking by submitting written comments, data, or views. We also invite comments relating to the economic, environmental, energy, or federalism impacts that might result from adopting the proposals in this document. The most helpful comments reference a specific portion of the proposal, explain the reason for any recommended change, and include supporting data. To ensure the docket does not contain duplicate comments, commenters should send only one copy of written comments, or if comments are filed electronically, commenters should submit only one time.

We will file in the docket all comments that we receive, as well as a report summarizing each substantive public contact with FAA personnel concerning this proposed rulemaking. Before acting on this proposal, we will consider all comments we receive on or before the closing date for comments. We will consider comments filed after the comment period has closed if it is possible to do so without incurring expense or delay. We may change this proposal in light of the comments we receive.

Discussion

Transport Canada Civil Aviation (TCCA), which is the aviation authority for Canada, has issued Canadian AD No. CF-2013-30, dated October 7, 2013, to correct an unsafe condition for BHTC Model 430 helicopters with control tube part number (P/N) 430-001-007-101. TCCA advises of two cases concerning failures of the control tube bonded clevis caused by cracking from control tube oscillation. TCCA states that this situation, if not corrected, could result in the loss of control of the helicopter. TCCA AD No. CF-2013-30 consequently requires a one-time inspection of the control tube for damage and contacting BHTC for evaluation of the control tube if the damage exceeds allowable limits. If the tube is not damaged, the damage is within allowable limits, or BHTC Engineering determines the control tube can be returned to service, TCCA AD No. CF-2013-30 requires modifying the tube according to BHTC's service information. TCCA AD No. CF-2013-30 also requires replacing control tubes, P/N 430-001-007-101, with control tube, P/N 430-001-007-105, no later than 12 months from the effective date of its AD.

FAA's Determination

These helicopters have been approved by the aviation authority of Canada and are approved for operation in the United States. Pursuant to our bilateral agreement with Canada, TCCA, its technical representative, has notified us of the unsafe condition described in its AD. We are proposing this AD because we evaluated all known relevant information and determined that an unsafe condition is likely to exist or develop on other products of the same type design.

Related Service Information

We reviewed Bell Helicopter Alert Service Bulletin No. 430-13-51, dated September 3, 2013 (ASB), which states that BHTC received two reports of control tube, P/N 430-001-007-101, failing because the clevis failed due to fatigue caused by control tube oscillation. The ASB specifies a one-time inspection of control tube assembly, P/N 430-001-007-101, to verify if the tube has chaffing damage. Bell Helicopter Technical Bulletin 430-04-35, Revision B, dated March 20, 2009, recommends that control tube, P/N 430-001-007-101, be replaced with control tube, P/N 430-001-007-105, if damage exists.

Proposed AD Requirements

This proposed AD would require:

• Within 50 hours time-in-service (TIS), visually inspecting each control tube for damage, damage to the clevis, and to determine whether the clevis is correctly bonded to the control tube.

• If a control tube and clevis have no damage or damage within acceptable limits and the clevis is correctly bonded to the control tube, repairing the control tube by applying tape.

• If the control tube or clevis is damaged beyond acceptable limits or if the clevis is not correctly bonded, replacing control tube, P/N 430-001-007-101, with control tube, P/N 430-001-007-105.

• Within 250 hours TIS after the effective date of this AD, replacing each control tube, P/N 430-001-007-101, with control tube, P/N 430-001-007-105.

Differences Between This Proposed AD and the TCCA AD

The TCCA AD requires submitting sketches of a control tube damaged beyond defined limits to BHTC for evaluation. BHTC then determines if the control tube can be returned to service. We make no such requirement in this proposed AD.

Costs of Compliance

We estimate that this proposed AD would affect 5 helicopters of U.S. Registry and that labor costs average $85 a work hour. Based on these estimates, expect the following costs:

• The cost of inspecting the control tube would be minimal.

• Repairing the control tube would require 2 work-hours for a labor cost of $170.

• Replacing control tube, P/N 430-001-007-101, with control tube, P/N 430-001-007-105, would require 3 work-hours for a labor cost of $255. Parts would cost $3,974 for a total cost per helicopter of $4,229.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this proposed AD would not have federalism implications under Executive Order 13132. This proposed AD would not have a substantial direct effect on the States, on the relationship between the national Government and the States, or on the distribution of power and responsibilities among the various levels of government.

For the reasons discussed, I certify this proposed regulation:

1. Is not a “significant regulatory action” under Executive Order 12866;

2. Is not a “significant rule” under the DOT Regulatory Policies and Procedures (44 FR 11034, February 26, 1979);

3. Will not affect intrastate aviation in Alaska to the extent that it justifies making a regulatory distinction; and

4. Will not have a significant economic impact, positive or negative, on a substantial number of small entities under the criteria of the Regulatory Flexibility Act.

We prepared an economic evaluation of the estimated costs to comply with this proposed AD and placed it in the AD docket.

List of Subjects in 14 CFR Part 39

Air transportation, Aircraft, Aviation safety, Incorporation by reference, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. Amend § 39.13 by adding the following new airworthiness directive (AD):

Bell Helicopter Textron Canada: Docket No. FAA-2014-0499; Directorate Identifier 2013-SW-061-AD.

(a) Applicability

This AD applies to Bell Helicopter Textron Canada (BHTC) Model 430 Helicopters, serial number 49001 through 49121, with control tube assembly (control tube), part number (P/N) 430-001-007-101, installed, certificated in any category.

(b) Unsafe Condition

This AD defines the unsafe condition as fatigue failure of a tail rotor control tube bonded clevis. This condition could result in failure of the tail rotor control tube and subsequent loss of helicopter control.

(c) Comments Due Date

We must receive comments by September 29, 2014.

(d) Compliance

You are responsible for performing each action required by this AD within the specified compliance time unless it has already been accomplished prior to that time.

(e) Required Actions

(1) Within 50 hours time-in-service (TIS), visually inspect each control tube for any damage, for any damage to the clevis, and to determine whether the clevis is correctly bonded to the control tube.

(i) If a control tube and clevis have no damage or damage within acceptable limits and the clevis is correctly bonded to the control tube, repair the control tube by applying tape in accordance the Accomplishment Instructions, Paragraph 5, of Bell Helicopter Alert Service Bulletin 430-13-51, dated September 3, 2013.

(ii) If the control tube or clevis is damaged beyond acceptable limits or if the clevis is not correctly bonded to the control tube, replace control tube, P/N 430-001-007-101, with control tube, P/N 430-001-007-105.

(2) Within 250 hours TIS, replace each control tube, P/N 430-001-007-101, with control tube, P/N 430-001-007-105.

(f) Alternative Methods of Compliance (AMOCs)

(1) The Manager, Safety Management Group, FAA, may approve AMOCs for this AD. Send your proposal to: Matt Fuller, Senior Aviation Safety Engineer, Safety Management Group, Rotorcraft Directorate, FAA, 2601 Meacham Blvd., Fort Worth, Texas 76137; telephone (817) 222-5110; email matthew.fuller@faa.gov.

(2) For operations conducted under a 14 CFR part 119 operating certificate or under 14 CFR part 91, subpart K, we suggest that you notify your principal inspector, or lacking a principal inspector, the manager of the local flight standards district office or certificate holding district office before operating any aircraft complying with this AD through an AMOC.

(g) Additional Information

(1) Bell Helicopter Technical Bulletin 430-04-35, Revision B, dated March 20, 2009, which is not incorporated by reference, contains additional information about the subject of this AD. For service information, contact Bell Helicopter Textron Canada Limited, 12,800 Rue de l'Avenir, Mirabel, Quebec J7J1R4; telephone (450) 437-2862 or (800) 363-8023; fax (450) 433-0272; or at http://www.bellcustomer.com/files/. You may review the referenced service information at the FAA, Office of the Regional Counsel, Southwest Region, 2601 Meacham Blvd., Room 663, Fort Worth, Texas 76137.

(2) The subject of this AD is addressed in the Transport Canada Civil Aviation (TCCA) AD No. CF-2013-30, dated October 7, 2013. You may view the TCCA AD on the Internet at http://www.regulations.gov in Docket No. FAA-2014-0499.

(h) Subject

Joint Aircraft Service Component (JASC) Code: 6720, Tail Rotor Control System.

Issued in Fort Worth, Texas, on July 18, 2014.
S. Frances Cox,
Acting Directorate Manager, Rotorcraft Directorate, Aircraft Certification Service.

[FR Doc. 2014-17925 Filed 7-29-14; 8:45 am]

BILLING CODE 4910-13-P